DEPARTMENT OF ENERGY

Office of Environmental Management; Site-Specific Advisory Board; Renewal

Pursuant to Section 14(a)(2)(A) of the Federal Advisory Committee Act (Pub. L. 92-463), in accordance with Title 41, Section 102-3.65(a) of the Code of Federal Regulations, and following consultation with the Committee Management Secretariat, General Services Administration, notice is hereby given that the Environmental Management Site-Specific Advisory Board is being renewed for a two-year period beginning May 16, 2006. The Environmental Management Site-Specific Advisory Board will provide advice and recommendations to the Assistant Secretary for Environmental Management (EM).

The Board provides the Assistant Secretary for EM with information, advice, and recommendations concerning issues affecting the EM program at various sites. These site-specific issues include clean-up standards and environmental restoration; waste management and disposition; stabilization and disposition of non-stockpile nuclear materials; excess facilities; future land use and long-term stewardship; risk assessment and management; and clean-up science and technology activities.

Furthermore, the renewal of the Environmental Management Site-Specific Advisory Board has been determined to be essential to the conduct of Department of Energy business and to be in the public interest in connection with the performance of duties imposed on the Department of Energy by law and agreement. The Board will operate in accordance with the provisions of the Federal Advisory Committee Act, and rules and regulations issued in implementation of those Acts.

Further information regarding this Advisory Board may be obtained from Ms. Melissa A. Nielson at (202) 586-0356.

Issued in Washington, DC, on April 11, 2006.
James N. Solit,
Advisory Committee Management Officer.

[FR Doc. E6-5781 Filed 4-17-06; 8:45 am]

BILLING CODE 6450-01-P